DEPARTMENT OF TRANSPORTATION

Surface Transportation Board

[STB Finance Docket No. 33841]

R.J. Corman Railroad Company/Memphis Line—Operation Exemption—Line in Montgomery and Stewart Counties, TN

R.J. Corman Railroad Company/Memphis Line (RJCM), a Class III common carrier by rail, has filed a verified notice of exemption under 49 CFR 1150.31 to operate an abandoned rail line extending from former milepost LF-182.50, at Zinc, TN, to former milepost LF-199.08, at Cumberland City, TN, a distance of approximately 16.58 miles in Montgomery and Stewart Counties, TN.¹ The line would connect with RJCM's existing rail line at Zinc.

¹ RJCM states that the rail line was abandoned by Seaboard Systems Railroad, Inc. (SBD) in 1984. See Seaboard System Railroad, Inc.—Abandonment—in Houston, Stewart and Montgomery Counties, TN, Docket No. AB-55 (Sub-No. 84) (ICC served Oct. 5, 1983). RJCM further states that it had previously acquired the right, title and interest of CSX Transportation, Inc. (CSXT), SBD's successor, in the abandoned rail line, as well as a short segment of the abandoned line that had been transferred by CSXT to a third party.

The exemption became effective on December 30, 1999, 7 days after the exemption was filed.²

² RJCM's has indicated that its present and projected annual revenues exceed $5 million and has acknowledged that the 60-day advance notice requirements of 49 CFR 1150.32(e) would appear to apply here. RJCM simultaneously filed a petition for waiver of the advance notice requirement. The purpose of the Board's rule at 49 CFR 1150.32(e) is to give advance notice of a transaction to any employees on the affected line. Because the line had been previously abandoned and there thus are no employees on the line, the rule does not apply here.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33841, must be filed with the Surface Transportation Board, Office of the Secretary, Case Control Unit, 1925 K Street, NW, Washington, DC 20423-0001. In addition, a copy of each pleading must be served on Thomas J. Litwiler, Oppenheimer Wolff & Donnelly (Illinois), Two Prudential Plaza, 45th Floor, 180 North Stetson Avenue, Chicago, IL 60601-6710.

Board decisions and notices are available on our website at “WWW.STB.DOT.GOV.”

Decided: January 11, 2000.
By the Board, David M. Konschnik, Director, Office of Proceedings.
Vernon A. Williams,
Secretary.

[FR Doc. 00-1078 Filed 1-14-00; 8:45 am]

BILLING CODE 4915-00-P